DEPARTMENT OF DEFENSE

Department of the Air Force

Notice of Adoption of Categorical Exclusions Under the National Environmental Policy Act

AGENCY: Department of the Air Force, DOD.

ACTION: Notice of adoption of categorical exclusions.

SUMMARY: The Department of the Air Force (DAF) has identified categorical exclusions (CATEXs) established by the Department of Energy (DOE), United States Geological Survey (USGS), United States Forest Service (USFS), Natural Resource Conservation Services (NRCS), Department of Interior (DOI), Bureau of Land Management (BLM), and Farm Service Agency (FSA) that DAF is adopting (42 United States Code (U.S.C.) 4336c). This notice identifies the twenty-seven CATEXs established by the above listed Federal agencies and describes the categories of proposed actions for which the DAF intends to use these CATEXs. The DAF has consulted with these agencies, as described herein, and obtained concurrence on DAF use of these CATEXs.

DATES: The CATEXs identified in the SUPPLEMENTARY INFORMATION section are available for DAF use effective immediately.

ADDRESSES: Mr. Jack Bush, Suite 4C1057, 1260 Air Force Pentagon, Arlington, VA 20330-1263; Email: af.a4c.nepaworkflow@us.af.mil.

FOR FURTHER INFORMATION CONTACT: Mr. Jack Bush, DAF NEPA Policy and Execution Oversite, 703-695-1773, af.a4c.nepaworkflow@us.af.mil.

SUPPLEMENTARY INFORMATION:

I. Background

Congress enacted the National Environmental Policy Act, 42 U.S.C. 4321-4347 (NEPA) to encourage productive and enjoyable harmony between humans and the environment, recognizing the profound impact of human activity and the critical importance of restoring and maintaining environmental quality to the overall welfare of humankind. (42 U.S.C. 4321, 4331). NEPA seeks to ensure that agencies consider the environmental effects of their proposed major actions in their decision-making processes and inform and involve the public in that process.

To comply with NEPA, agencies determine the appropriate level of review of any major federal action—an environmental impact statement (EIS), environmental assessment (EA), or categorical exclusion (CATEX) (42 U.S.C. 4336). If a proposed action is likely to have significant environmental effects, the agency must prepare an EIS and document its decision in a record of decision (42 U.S.C. 4336). If the proposed action is not likely to have significant environmental effects or the effects are unknown, the agency may instead prepare an EA, which involves a more concise analysis and process than an EIS (42 U.S.C. 4336). Following the EA, the agency may conclude that the action will have no significant effects and document that conclusion in a finding of no significant impact. If the analysis concludes that the action is likely to have significant effects, then an EIS is required.

Pursuant to NEPA, a Federal agency can also establish CATEXs—categories of actions that the agency has determined normally do not significantly affect the quality of the human environment—in their agency NEPA procedures (42 U.S.C. 4336e(1)).

If an agency determines that a CATEX covers a proposed action, it then evaluates the proposed action for extraordinary circumstances in which a normally excluded action may have a significant effect. If no extraordinary circumstances are present, the agency may apply the CATEX to the proposed action without preparing an EA or EIS (42 U.S.C. 4336(a)(2)). DAF considers extraordinary circumstances pursuant to Department of Defense (DOD) NEPA Implementing Procedures dated 30 June 2025 Part 1.4(d) Applying Categorical Exclusions and will concurrently use the agency extraordinary circumstances for the adopted CATEXs as identified below.

If an extraordinary circumstance exists, the agency nevertheless may apply the categorical exclusion if the agency conducts an analysis and determines that the proposed action does not in fact have the potential to result in significant effects notwithstanding the extraordinary circumstance or the agency modifies the proposed action to avoid or otherwise mitigate significant effects.

Section 109 of NEPA, enacted as part of the Fiscal Responsibility Act of 2023, allows a Federal agency to adopt another Federal agency's CATEX (42 U.S.C. 4336c). To use another agency's CATEXs under section 109, the adopting agency must identify the relevant CATEX listed in another agency's (“establishing agency”) NEPA procedures that covers the adopting agency's category of proposed actions or related actions; consult with the establishing agency to ensure that the proposed adoption of the CATEX is appropriate for a category of actions; identify to the public the CATEX that the adopting agency plans to use for its proposed actions; and document adoption of the CATEX (42 U.S.C. 4336c).

II. DOE, USGS, USFS, NRCS, DOI, BLM, and FSA Categorical Exclusions

DAF is adopting sixteen CATEXs established by the DOE. These CATEXs are listed in DOE's NEPA Implementing Procedures, Appendix B (February 2026). Each of the DOE CATEXs includes conditions on the scope and application of the CATEX within the text of the following numbered paragraphs.

1. B1.2 Training Exercises and Simulations. Training exercises and simulations (including, but not limited to, firing-range training, small-scale and short-duration force-on-force exercises, emergency response training, fire fighter and rescue training, and decontamination and spill cleanup training) conducted under appropriately controlled conditions and in accordance with applicable requirements.

2. B1.19 Microwave, Meteorological, and Radio Towers. Siting, construction, modification, operation, and removal of microwave, radio communication, and meteorological towers and associated facilities, provided that the towers and associated facilities would not be in a governmentally designated scenic area (see B(4)(iv) of this appendix) unless otherwise authorized by the appropriate governmental entity.

3. B1.33 Stormwater Runoff Control. Design, construction, and operation of control practices to reduce stormwater runoff and maintain natural hydrology. Activities include, but are not limited to, those that reduce impervious surfaces (such as vegetative practices and use of porous pavements), best management practices (such as silt fences, straw wattles, and fiber rolls), and use of green infrastructure or other low impact development practices (such as cisterns and green roofs).

4. B4.1 Contracts, Policies, and Marketing and Allocation Plans for Electric Power. Establishment and implementation of contracts, policies, and marketing and allocation plans related to electric power acquisition that involve only the use of the existing transmission system and existing generation resources operating within their normal operating limits.

5. B4.2 Export of Electrical Energy. Export of electric energy as provided by Section 202(e) of the Federal Power Act over existing transmission systems or using transmission system changes that are themselves categorically excluded.

6. B4.4 Power Marketing Services and Activities. Power marketing services and power management activities (including, but not limited to, storage, load shaping and balancing, seasonal exchanges, and other similar activities), provided that the operations of generating projects would remain within normal operating limits. (See B4.14 of this appendix for energy storage systems.)

7. B4.6 Additions and Modifications to Transmission Facilities. Additions or modifications to electric power transmission facilities within a previously disturbed or developed facility area. Covered activities include, but are not limited to, switchyard rock grounding upgrades, secondary containment projects, paving projects, seismic upgrading, tower modifications, load shaping projects (such as reducing energy use during periods of peak demand), changing insulators, and replacement of poles, circuit breakers, conductors, transformers, and crossarms. (See B4.14 of this appendix for energy storage systems.)

8. B4.7 Fiber Optic Cable. Adding fiber optic cables to transmission facilities or burying fiber optic cable in existing powerline or pipeline rights-of-way. Covered actions may include associated vaults and pulling and tensioning sites outside of rights-of-way in nearby previously disturbed or developed areas.

9. B4.8 Electricity Transmission Agreements. New electricity transmission agreements, and modifications to existing transmission arrangements, to use a transmission facility of one system to transfer power of and for another system, provided that no new generation projects would be involved and no physical changes in the transmission system would be made beyond the previously disturbed or developed facility area.

10. B4.10 Removal of Electric Transmission Facilities. Deactivation, dismantling, and removal of electric transmission facilities (including, but not limited to, electric powerlines, substations, and switching stations) and abandonment and restoration of rights-of-way (including, but not limited to, associated access roads).

11. B4.11 Electric Power Substations and Interconnection Facilities. Construction or modification of electric power substations or interconnection facilities (including, but not limited to, switching stations and support facilities).

12. B4.12 Construction of Powerlines. Construction of electric powerlines approximately 10 miles in length or less, or approximately 20 miles in length or less within previously disturbed or developed powerline or pipeline rights-of-way.

13. B4.13 Upgrading and Rebuilding Existing Powerlines. Upgrading or rebuilding existing electric powerlines, which may involve relocations of small segments of the powerlines within an existing powerline right-of-way or within otherwise previously disturbed or developed lands (as discussed at section 5.4(b)(1)). Upgrading or rebuilding existing electric powerlines also may involve widening an existing powerline right-of-way to meet current electrical standards if the widening remains within previously disturbed or developed lands and only extends into a small area beyond such lands as needed to comply with applicable electrical standards. Covered actions would be in accordance with applicable requirements, including the integral elements listed at the start of this appendix; and would incorporate appropriate design and construction standards, control technologies, and best management practices. This categorical exclusion does not apply to underwater powerlines. As used in this categorical exclusion, “small” has the meaning discussed at section 5.4(b)(2)).

14. B4.14 Construction and Operation of Electrochemical-Battery or Flywheel Energy Storage Systems. Construction, operation, upgrade, or decommissioning of an electrochemical-battery or flywheel energy storage system within a previously disturbed or developed area or within a small (as discussed at section 5.4(b)(2)) area contiguous to a previously disturbed or developed area. Covered actions would be in accordance with applicable requirements (such as land use and zoning requirements) in the proposed project area and the integral elements listed at the start of this appendix, and would incorporate appropriate safety standards (including the current National Fire Protection Association 855, Standard for the Installation of Stationary Energy Storage Systems), design and construction standards, control technologies, and best management practices.

15. B5.16 Solar Photovoltaic Systems. (a) The installation, modification, operation, or decommissioning of commercially available solar photovoltaic systems: (1) Located on a building or other structure (such as rooftop, parking lot or facility, or mounted to signage, lighting, gates, or fences); or (2) Located within a previously disturbed or developed area. (b) Covered actions would be in accordance with applicable requirements (such as land use and zoning requirements) in the proposed project area and the integral elements listed at the start this appendix, and would be consistent with applicable plans for the management of wildlife and habitat, including plans to maintain habitat connectivity, and incorporate appropriate control technologies and best management practices.

16. B5.23 Electric Vehicle Charging Stations. The installation, modification, operation, and removal of electric vehicle charging stations, using commercially available technology, within a previously disturbed or developed area. Covered actions are limited to areas where access and parking are in accordance with applicable requirements (such as local land use and zoning requirements) in the proposed project area and would incorporate appropriate control technologies and best management practices.

The DAF is adopting three CATEXs established by the USGS. These CATEXs are listed in DOI Handbook of NEPA Procedures, Appendix 2, Section 9.5. Each of the USGS CATEXs includes conditions on the scope and application of the CATEX within the text of the following numbered paragraphs.

1. B. Collection of data and samples for geologic, paleontologic, hydrologic, mineralogic, geochemical and surface or subsurface geophysical investigations, and resource evaluation, including contracts therefor.

2. H. Establishment of survey marks, placement and operation of field instruments, and installation of any research/monitoring devices.

3. I. Digging and subsequent site restoration of exploratory trenches not to exceed one acre of surface disturbance.

The DAF is adopting three CATEXs established by the USFS. These CATEXs are listed in USFS's NEPA regulations at 7 CFR 1b.4. Each of the USFS CATEXs includes conditions on the scope and application of the CATEX within the text of the following numbered paragraphs.

1. (d)(32)(USDA-32d-USFS) Short-term (1 year or less) mineral, energy, or geophysical investigations and their incidental support activities that may require cross-country travel by vehicles and equipment, construction of less than 1 mile of low standard road, or use and minor repair of existing roads. Examples include, but are not limited to:

(i) Authorizing geophysical investigations which use existing roads that may require incidental repair to reach sites for drilling core holes, temperature gradient holes, or seismic shot holes;

(ii) Gathering geophysical data using shot hole, vibroseis, or surface charge methods;

(iii) Trenching to obtain evidence of mineralization;

(iv) Clearing vegetation for sight paths or from areas used for investigation or support facilities;

(v) Redesigning or rearranging surface facilities within an approved site;

(vi) Approving interim and final site restoration measures; and

(vii) Approving a plan for exploration which authorizes repair of an existing road and the construction of ⅓ mile of temporary road; clearing vegetation from an acre of land for trenches, drill pads, or support facilities.

2. (d)(34)(USDA-34d-USFS) Post-fire rehabilitation activities, not to exceed 4,200 acres (such as tree planting, fence replacement, habitat restoration, heritage site restoration, repair of roads and trails, and repair of damage to minor facilities such as campgrounds), to repair or improve lands unlikely to recover to a management approved condition from wildland fire damage, or to repair or replace minor facilities damaged by fire. Such activities:

(i) Shall be conducted consistent with Agency and Departmental procedures and applicable land and resource management plans;

(ii) Shall not include the use of herbicides or pesticides or the construction of new permanent roads or other new permanent infrastructure; and

(iii) Shall be completed within 3 years following a wildland fire.

3. (d)(40)(USDA-40d-USFS) Restoring wetlands, streams, riparian areas or other water bodies by removing, replacing, or modifying water control structures such as, but not limited to, dams, levees, dikes, ditches, culverts, pipes, drainage tiles, valves, gates, and fencing, to allow waters to flow into natural channels and floodplains and restore natural flow regimes to the extent practicable where valid existing rights or special use authorizations are not unilaterally altered or canceled. Examples include but are not limited to:

(i) Repairing an existing water control structure that is no longer functioning properly with minimal dredging, excavation, or placement of fill, and does not involve releasing hazardous substances;

(ii) Installing a newly-designed structure that replaces an existing culvert to improve aquatic organism passage and prevent resource and property damage where the road or trail maintenance level does not change;

(iii) Removing a culvert and installing a bridge to improve aquatic and/or terrestrial organism passage or prevent resource or property damage where the road or trail maintenance level does not change; and

(iv) Removing a small earthen and rock fill dam with a low hazard potential classification that is no longer needed.

The DAF is adopting two CATEXs established by the NRCS. These CATEXs are listed in NRCS's NEPA regulations at 7 CFR 1b.4. The NRCS CATEX includes conditions on the scope and application of the CATEX within the text of the following numbered paragraphs.

1. (d)(21)(USDA-21d-NRCS) Undertaking minor agricultural practices to maintain and restore ecological conditions in floodplains after a natural disaster or on lands impacted by human alteration. Examples of these practices include: mowing, haying, grazing, fencing, off-stream watering facilities, and invasive species control which are undertaken when fish and wildlife are not breeding, nesting, rearing young, or during other sensitive timeframes.

2. (d)(22)(USDA-22d-NRCS) Implementing soil control measures on existing agricultural lands, such as grade stabilization structures (pipe drops), sediment basins, terraces, grassed waterways, filter strips, riparian forest buffer, and critical area planting.

The DAF is adopting a CATEX established by the DOI. This CATEX is listed in DOI Handbook of NEPA Procedures—Appendix 2, Section 7.5. The DOI CATEX includes conditions on the scope and application of the CATEX within the text of the following numbered paragraph. Note, the DOI has determined that the CATEX listed below will not be used by DOI bureaus in areas within the jurisdiction of the United States Court of Appeals for the Ninth Circuit.

1. B(12)*(Not for use within the jurisdiction of the Ninth Circuit Court.) Hazardous fuels reduction activities using prescribed fire not to exceed 4,500 acres, and mechanical methods for crushing, piling, thinning, pruning, cutting, chipping, mulching, and mowing, not to exceed 1,000 acres. Such activities:

(a) Shall be limited to areas—

(i) In wildland-urban interface; and

(ii) Condition Classes 2 or 3 in Fire Regime Groups I, II, or III, outside the wildland-urban interface;

(b) Shall be identified through a collaborative framework as described in “A Collaborative Approach for Reducing Wildland Fire Risks to Communities and the Environment 10-Year Comprehensive Strategy Implementation Plan;”

(c) Shall be conducted consistent with bureau and Departmental procedures and applicable land and resource management plans;

(d) Shall not be conducted in wilderness areas or impair the suitability of wilderness study areas for preservation as wilderness; and

(e) Shall not include the use of herbicides or pesticides or the construction of new permanent roads or other new permanent infrastructure; and may include the sale of vegetative material if the primary purpose of the activity is hazardous fuels reduction.

(* Indicates that DOI has a requirement to document the applicability of the CATEX and review of extraordinary circumstances)

The DAF is adopting a CATEX established by the BLM. This CATEX is listed in DOI Handbook of NEPA Procedures—Appendix Section 11.9. The BLM CATEX includes conditions on the scope and application of the CATEX within the text of the following numbered paragraph.

1. * B(7). Approval of an operations plan and associated Geothermal Drilling Permits for a geothermal resource confirmation project, pursuant to 43 CFR part 3200, subpart 3260; which:

a. Does not include resource utilization;

b. Does not exceed 20 acres of total (contiguous or noncontiguous) surface disturbance;

c. Requires reclamation of all surface disturbances when their intended purpose has been fulfilled;

d. Requires reclamation of temporary routes when their intended purpose(s) has been fulfilled, unless through a separate review and decision-making process the BLM incorporates and appropriately designates the route as part of its transportation system;

e. Does not make a temporary route available for public use unless the temporary route is specifically intended to accommodate public use;

f. Requires temporary routes to be constructed and used so as to allow for the reclamation, by artificial or natural means, of vegetative cover on the temporary route and areas where the vegetative cover was disturbed by the construction or use of the route, and requires such treatment to be designed to reestablish vegetative cover as soon as possible, but at most within 10 years after approved reclamation commences; and,

g. Includes design elements to protect resources and resource uses consistent with the applicable Resource Management Plan, laws, regulations, and lease terms

(* Indicates that DOI has a requirement to document the applicability of the CATEX and review of extraordinary circumstances)

The DAF is adopting a CATEX established by the FSA. This CATEX is listed in FSA's NEPA regulations at 7 CFR 1b.4. The FSA CATEX includes conditions on the scope and application of the CATEX within the text of the following numbered paragraph.

1. (c)(16)(v)(USDA-16c-FSA) Conservation easement purchases with no construction planned.

III. DAF's Use of Adopted CATEXs

DAF expects to use the above listed CATEXs for proposed actions that would enhance mission capabilities and effectiveness, improve safety, and increase operational efficiencies. The examples listed here are illustrative and not an exclusive list of the proposed actions for which CATEXs may be available. For example, USFS CATEX (d)(40) would allow the DAF to restore wetlands, streams, riparian areas and other water bodies. Also, consistent with USGS CATEX B, the DAF may utilize this CATEX for completion of geomorphological investigations, shovel testing, and soil sampling. NRCS CATEX (d)(21) and FSA CATEX (c)(16)(v) would allow DAF to implement soil control measures on existing agricultural lands when conducing grazing projects. The DAF may utilize DOE CATEX B4.11 for the construction or modification of electric power substations or interconnection facilities. The categories of actions described herein are activities for which the DAF contemplates using the CATEXs at this time; however, DAF may expand use of the CATEXs identified in Section II to other activities where appropriate and would consult with the establishing agency, as needed. When the establishing agency CATEX requires documentation to apply the CATEX, the DAF Environmental Planning Function (EPF) shall complete a detailed DAF Form 813 Request for Environmental Impact Analysis. When a CATEX describes an exempted activity as being carried out by the owning agency, the CATEX applies to the same exempted activity when it is carried out by the DAF.

IV. Consideration of Extraordinary Circumstances

The DoD has NEPA implementing procedures to guide its analysis of extraordinary circumstances. Further, DAF will apply the owning agency's extraordinary circumstances. If an extraordinary circumstance is present, the DAF will determine whether it is possible to avoid significant effects. The DAF EPF must document application of any mitigations on a fully developed DAF Form 813. If DAF cannot apply a CATEX to a particular proposed action due to extraordinary circumstances, DAF will prepare an EA or EIS, consistent with DoD NEPA Implementing Procedures dated 30 June 2025 Part 1.4 Categorical exclusions.

IV. Consultation With Establishing Agencies and Determination of Appropriateness

DAF worked with DOE, USGS, USFS, NRCS, DOI, BLM, and FSA to identify twenty-seven CATEXs that could apply to DAF proposed actions and consulted with these agencies between 3 December 2024 and 29 April 2025. During the consultation, the agencies discussed whether the categories of DAF proposed actions would be appropriately covered by CATEXs from the above listed Federal agencies; the extraordinary circumstances that DAF should consider before applying these CATEXs to DAF's proposed actions; the requirement to evaluate before use of the above listed Federal agencies CATEXs, the conditions listed as integral elements in these agencies NEPA regulations (listed in Section II above); and what documentation DAF should complete when applying these CATEXs. The agencies also considered past use of the CATEXs by the DOE, USGS, USFS, NRCS, DOI, BLM, and FSA, including how often these agencies modified a proposed action or prepared an EA or EIS for a proposed action otherwise covered by the CATEXs. At the conclusion of that process, the agencies determined that DAF's proposed use of the CATEXs as described in this notice would be appropriate.

V. Conclusion

This notice documents adoption of the twenty-seven CATEXs listed in Section II in accordance with 42 U.S.C. 4336c(4), and they are available for use by DAF, effective immediately.

(Authority: 42 U.S.C. 4321-4347.)

Crystle C. Poge,
Air Force Federal Register Liaison Officer.

[FR Doc. 2026-03624 Filed 2-23-26; 8:45 am]

BILLING CODE 3911-44-P